DEPARTMENT OF COMMERCE

National Institute of Standards and Technology

AGENCY: National Institute of Standards and Technology Commerce.

ACTION: Notice of Government owned invention available for licensing.

SUMMARY: The invention listed below is owned in whole by the U.S. Government, as represented by the Department of Commerce. The invention is available for non-exclusive U.S. licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Attn: Mary Clague, Building 820, Room 213, Gaithersburg, MD 20899. Information is also available via telephone: 301-975-4188, fax 301-869-2751, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The invention available for non-exclusive U.S. licensing is:

[Docket No.: 02-003US]

Title: Low Cost Refreshable Tactile Graphic Array, and Driving Options for Scanned Tactile Graphic Display.

Abstract: This invention provides apparatus and methods for extended, refreshable display of graphics, and particularly provides an extended refreshable tactile graphic array for scanned tactile displays that accommodates both a Braille matrix and a closely spaced matrix for graphics, that does not require the application of power to maintain the displayed image once the stimulus points, or pins, have been set, that can be operated using conventional electromechanical actuators each operatively associated with plural stimulus points, and that can be adapted for multi-level (relief) display.

Dated: September 5, 2003.
Arden L. Bement, Jr.,
Director.

[FR Doc. 03-23178 Filed 9-10-03; 8:45 am]

BILLING CODE 3510-13-P